DEPARTMENT OF ENERGY

Environmental Management Site-Specific Advisory Board, Idaho

AGENCY: Department of Energy.

ACTION: Notice of open meeting.

SUMMARY: This notice announces a meeting of the Environmental Management Site-Specific Advisory Board (EM SSAB), Idaho. The Federal Advisory Committee Act (Pub. L. No. 92-463, 86 Stat. 770) requires that public notice of these meetings be announced in the Federal Register.

DATES: Tuesday, January 15, 2002, 8:00 a.m.-6:00 p.m.; Wednesday, January 16, 2002, 8:00 a.m.-5:00 p.m.

Public participation sessions will be held on: Tuesday, January 15, 2002, 12:15-12:30 p.m, 5:45-6:00 p.m.; Wednesday, January 16, 2002, 11:45-12:00 noon, 4:00-4:15 p.m.

These times are subject to change as the meeting progresses. Please check with the meeting facilitator to confirm these times.

ADDRESSES: Ameritel Inn, 645 Lindsay Boulevard, Idaho Falls, Idaho.

FOR FURTHER INFORMATION CONTACT: Ms. Wendy Lowe, Idaho National Engineering and Environmental Laboratory (INEEL) Citizens' Advisory Board (CAB) Facilitator, Jason Associates Corporation, 477 Shoup Avenue, Suite 205, Idaho Falls, ID 83402, Phone (208) 522-1662 or visit the Board's Internet home page at http://www.ida.net/users/cab.

SUPPLEMENTARY INFORMATION: Purpose of the Board: The purpose of the Board is to make recommendations to DOE and its regulators in the areas of future use, cleanup levels, waste disposition and cleanup priorities at the INEEL.

Tentative Agenda: Topics

• The recently released report titled “Poison in the Vadose Zone”

• Biannual rotation of CAB membership

• Remediation objectives for the Subsurface Disposal Area

• Pit 9 Interim Action

• Public acceptance of alternative technologies to incineration

• Environmental Restoration program and how DOE is doing in implementing its commitments under the Federal Facility Agreement/Consent Order

• Closure of High-Level Waste tanks 182 and 183

• INEEL Long-Term Stewardship Strategic Overview

• CAB's position on the INEEL Comprehensive Environmental Response, Compensation, and Liability Act Disposal Facility

• Proposed Plan for remedial action at Waste Group 10

• Workforce restructuring

(Agenda topics may change up to the day of the meeting. Please contact Jason Associates for the most current agenda or visit the CAB's Internet site at www.ida.net/users/cab/.)

Public Participation: This meeting is open to the public. Written statements may be filed with the Board facilitator either before or after the meeting. Individuals who wish to make oral presentations pertaining to agenda items should contact the Board Chair at the address or telephone number listed above. Requests must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes: The minutes of this meeting will be available for public review and copying at the Freedom of Information Public Reading Room, 1E-190, Forrestal Building, 1000 Independence Avenue, SW., Washington, DC 20585 between 9:00 a.m. and 4:00 p.m., Monday through Friday except Federal holidays. Minutes will also be available by writing to Ms. Wendy Lowe,INEEL CAB Facilitator, Jason Associates Corporation, 477 Shoup Avenue, Suite 205, Idaho Falls, ID 83402 or by calling (208) 522-1662.

Issued at Washington, DC, on December 7, 2001.
Rachel Samuel,
Deputy Advisory Committee Management Officer.

[FR Doc. 01-30745 Filed 12-11-01; 8:45 am]

BILLING CODE 6450-01-P